DEPARTMENT OF DEFENSE

Office of the Secretary

[Docket ID: DoD-2020-OS-0014]

Privacy Act of 1974; System of Records

AGENCY: Office of the Secretary, Department of Defense (DoD).

ACTION: Notice of a modified System of Records.

SUMMARY: The Office of the Secretary of Defense (OSD) is modifying an existing System of Records, Defense Civilian Personnel Data System (DCPDS), DPR 34 DoD, by changing the system name and number to the Defense Civilian Human Resource Management System (DCHRMS), DHRA 23 DoD. The DCHRMS serves as the Department's enterprise civilian human resources (HR) automated system and supports one-third of the Federal work force. The Defense Civilian Personnel Advisory Service will manage the development, deployment, and administration of the DCHRMS operation. DCHRMS' operational activities will include the processing of all personnel transactions, position management, providing workforce analysis and reporting for the DoD and external government agencies, support for health insurance programs, managing benefits, performance management and reporting certification and training. DCHRMS will support the entire civilian HR life cycle, with transactions and information reflecting acquiring, assigning, training and development, sustaining and managing HR compensation, managing organizations, supporting benefits management, and separation or termination of civilian personnel.

DATES: This System of Records modification is effective upon publication; however, comments on the Routine Uses will be accepted on or before February 27, 2020. The Routine Uses are effective at the close of the comment period.

ADDRESSES: You may submit comments, identified by docket number and title, by any of the following methods:

* Federal Rulemaking Portal: https://www.regulations.gov.

Follow the instructions for submitting comments.

* Mail: Department of Defense, Office of the Chief Management Officer, Directorate for Oversight and Compliance, 4800 Mark Center Drive, Mailbox #24, Suite 08D09, Alexandria, VA 22350-1700.

Instructions: All submissions received must include the agency name and docket number for this Federal Register document. The general policy for comments and other submissions from members of the public is to make these submissions available for public viewing on the internet at https://www.regulations.gov as they are received without change, including any personal identifiers or contact information.

FOR FURTHER INFORMATION CONTACT: Ms. Luz D. Ortiz, Chief, Records, Privacy and Declassification Division (RPDD), 1155 Defense Pentagon, Washington, DC 20311-1155, or by phone at (571) 372-0478.

SUPPLEMENTARY INFORMATION: The OSD is modifying this System of Records by changing the following sections: System name and number, system location, system manager(s), authority for maintenance of the system, purpose(s) of the system, categories of records in the system, administrative, technical, and physical safeguards, records source categories, routine uses, and notification procedures.

DCPDS is migrating to new software, a service/cloud based human capital management system, which will be referred to as DCHRMS. The DCHRMS implementation supports the 2018 President's Management Agenda Key Driver of Transformation to “Build and maintain more modern, secure, and resilient information technology to enhance mission delivery and productivity” while potentially reducing costs by minimizing variations from standard processes and design, increasing efficiencies, and enhancing customer satisfaction. The DCHRMS system will streamline and standardize personnel processes, such as hiring, reducing time, effort, and costs for the Department and users. The Software as a Service Cloud implementation will also provide more security as a single record source by eliminating duplicate record storage. Building a more modern, secure, and resilient system will enhance productivity and customer satisfaction. This includes an employee self-service system providing a single, comprehensive transactional record for civilian employees, resulting in more efficient and streamlined HR processes.

The OSD notices for Systems of Records subject to the Privacy Act of 1974, as amended, have been published in the Federal Register and are available from the address in FOR FURTHER INFORMATION CONTACT or at the Defense Privacy, Civil Liberties, and Transparency Division website at https://dpcld.defense.gov.

The proposed systems reports, as required by the Privacy Act of 1974, as amended, were submitted on November 22, 2019, to the House Committee on Oversight and Reform, the Senate Committee on Homeland Security and Governmental Affairs, and the Office of Management and Budget (OMB) pursuant to Section 6 to OMB Circular No. A-108, “Federal Agency Responsibilities for Review, Reporting, and Publication under the Privacy Act,” revised December 23, 2016 (December 23, 2016, 81 FR 94424).

Dated: January 23, 2020.
Aaron T. Siegel,
Alternate OSD Federal Register Liaison Officer, Department of Defense.

SYSTEM NAME AND NUMBER:

Defense Civilian Human Resource Management System (DCHRMS), DHRA 23 DoD.

SECURITY CLASSIFICATION:

Unclassified.

SYSTEM LOCATION:

Equinix Data Center, 1945 Lunt Avenue, Elk Grove Village, IL 60007; Secondary address: QTS Data Center, 44874 Moran Road, Sterling, VA 20166.

SYSTEM MANAGER(S):

Director, Enterprise Solutions and Integration Defense Civilian Personnel Advisory Service, 4800 Mark Center Drive, Suite 06E22, Arlington, VA 22350-6000, Email: dodhra.mc-alex.dcpas.mbx.saco@mail.mil.

AUTHORITY FOR MAINTENANCE OF THE SYSTEM:

5 U.S.C. Chapter 11, Office of Personnel Management; 5 U.S.C. Chapter 13, Special Authority; 5 U.S.C. Chapter 29, Commissions, Oaths, Records, and Reports; 5 U.S.C. Chapter 31, Authority for Employment; 5 U.S.C. Chapter 33, Examination, Selection, and Placement; 5 U.S.C. Chapter 41, Training; 5 U.S.C. Chapter 43, Performance Appraisal; 5 U.S.C. Chapter 51, Classification; 5 U.S.C. Chapter 53, Pay Rates and Systems; 5 U.S.C. Chapter 55, Pay Administration; 5 U.S.C. Chapter 61, Hours of Work; 5 U.S.C. Chapter 63, Leave; 5 U.S.C. Chapter 72, Antidiscrimination; Right to Petition Congress; 5 U.S.C. 7201, Antidiscrimination Policy; minority recruitment program; 5 U.S.C. Chapter 75, Adverse Actions; 5 U.S.C. Chapter 83, Retirement; 5 U.S.C. Chapter 84, Federal Employees' Retirement System, Antidiscrimination Policy; minority recruitment program; 10 U.S.C. 136, Under Secretary of Defense for Personnel and Readiness; E.O. 9830, Amending the Civil Service Rules and Providing for Federal Personnel Administration, as amended; 29 CFR part 1614.601, EEO Group Statistics; and E.O. 9397 (SSN), as amended.

PURPOSE(S) OF THE SYSTEM:

Data within DCHRMS is used to maintain a System of Records providing human resource information and system support for the DoD civilian workforce worldwide that manages the HR processing and reporting, including position, compensation and benefits, and performance management, as well as create efficiencies in Human Capital Management. Data within the Corporate Management Information System data warehouse is also used for analysis in order to meet Congressional and Federal reporting requirements.

CATEGORIES OF INDIVIDUALS COVERED BY THE SYSTEM:

Civilian employees and job applicants selected for civilian appropriated/non-appropriated fund (NAF), local nationals, and National Guard civilian technician positions in the DoD.

CATEGORIES OF RECORDS IN THE SYSTEM:

Personal information including name, date of birth, place of birth, citizenship, gender, marital status, DoD identification number (DoD ID), Social Security Number (SSN), employee number, emergency contact information (contact person's name, home phone, work phone, cell phone, email address), employee work email address, employee phone numbers to include home, work, pager, fax and mobile; security clearance information; ethnicity and race; disability code; and foreign language capability. Position authorization and control information; position data and performance elements; personnel data and projected suspense information for personnel actions; pay, benefits, and entitlements data. Historical information on employees, including job experience, education, training, and training transaction data; performance plans, interim appraisals, final appraisals, closeouts and ratings; professional accounting or other certifications or licenses; awards information and merit promotion information; separation and retirement data; civilian deployment information, and adverse and disciplinary action data. In addition, the Corporate Management Information System data (which is comprised of each employee current and historical record, to include all person, assignment, position, and personnel actions/updates) will be maintained and refreshed for agencies' historical and congressional reporting purposes.

RECORD SOURCE CATEGORIES:

Resumes, applicant record, Standard Form (SF) 181, Ethnicity and Race Identification, SF 256, “Self-Identification of Disability,” SF 144, “Statement of Prior Federal Service”; OF 306, “Declaration for Federal Employment”; DD 214, “Certificate of Release or Discharge from Active Duty”; SF 813, “Verification of a Military Retiree's Service In Non Wartime Campaigns or Expeditions”; SF 15, “Application for 10-Point Veteran Preference”; SF 52, “Request for Personnel Action”; SF 50, “Notification of Personnel Action”; SF 61, “Appointment Affidavit”; DD X739, “Civilian Employee's Military Reserve, Guard, or Retiree Data”; DD 2888, “DoD Critical Acquisition Position Service Agreement”; DD 2889, “DoD Critical Acquisition Position Service Agreement Key Leadership Position (KLP)”; DD 2365, “DoD Expeditionary Civilian Agreement: Emergency-Essential Positions and Non-Combat Essential Positions”; DD 3031, “Department of Defense Senior Executive Service Probation Period”; SF 2809, “Employees' Health Benefits Election”; SF 2817, “Federal Employees' Retirement System Election”; SF 75, “Request for Preliminary Employment Data”; employee or supervisor generated training requests; human resources generated records; employee generated data recorded as self-certified; and other employee or supervisor generated records. Data is also received from various interfaces with systems including, the Joint Personnel Adjudication System; Fourth Estate Manpower Tracking System; Defense Civilian Payroll System; the Air Force Manpower Programming and Execution System; NAF Payroll; Thrift Savings Plan hardship; Interactive Voice Recognition System; USA Staffing; and employee completed training data provided by respective Component agencies.

ROUTINE USES OF RECORDS MAINTAINED IN THE SYSTEM, INCLUDING CATEGORIES OF USERS AND PURPOSES OF SUCH USES:

In addition to those disclosures generally permitted under 5 U.S.C. 552a(b) of the Privacy Act of 1974, as amended, these records contained herein may specifically be disclosed outside the DoD as a routine use pursuant to 5 U.S.C. 552a(b)(3) as follows:

a. To the Equal Employment Opportunity Commission for the purpose of providing Equal Employment Opportunity group statistics in accordance with 29 CFR part 1614.601, EEO Group Statistics.

b. To the Office of Personnel Management (OPM) for the purpose of addressing civilian pay and leave, benefits, retirement deduction, and any other information necessary for the OPM to carry out its legally authorized government-wide personnel management functions and studies.

c. To educational institutions and commercial training providers for the purpose of selecting and registering applicants approved by a DoD component to attend a specified program, and, when applicable, to provide for payment.

d. To contractors responsible for performing or working on contracts for the DoD when necessary to accomplish an agency function related to this System of Records. Individuals provided information under this routine use are subject to the same Privacy Act requirements and limitations on disclosure that apply to DoD officers and employees.

e. To the appropriate Federal, State, local, territorial, tribal, foreign, or international law enforcement authority or other appropriate entity where a record, either alone or in conjunction with other information, indicates a violation or potential violation of law, whether criminal, civil, or regulatory in nature.

f. To any component of the Department of Justice, for the purpose of representing the DoD, or its components, officers, employees, or members in pending or potential litigation to which the record is pertinent.

g. In an appropriate proceeding before a court, grand jury, or administrative or adjudicative body or official, when the DoD or other Agency representing the DoD determines that the records are relevant and necessary to the proceeding; or in an appropriate proceeding before an administrative or adjudicative body when the adjudicator determines the records to be relevant to the proceeding.

h. To the National Archives and Records Administration for the purpose of records management inspections conducted under the authority of 44 U.S.C. 2904 and 2906.

i. To a Member of Congress or staff acting upon the Member's behalf when the Member or staff requests the information on behalf of, and at the request of, the individual who is the subject of the record.

j. To appropriate agencies, entities, and persons when (1) the DoD suspects or has confirmed that there has been a breach of the System of Records; (2) the DoD has determined that as a result of the suspected or confirmed breach there is a risk of harm to individuals, the DoD (including its information systems, programs, and operations), the Federal Government, or national security; and (3) the disclosure made to such agencies, entities, and persons is reasonably necessary to assist in connection with the DoD's efforts to respond to the suspected or confirmed breach or to prevent, minimize, or remedy such harm.

k. To another Federal agency or Federal entity, when the DoD determines that information from this System of Records is reasonably necessary to assist the recipient agency or entity in (1) responding to a suspected or confirmed breach or (2) preventing, minimizing, or remedying the risk of harm to individuals, the recipient agency or entity (including its information systems, programs and operations), the Federal Government, or national security, resulting from a suspected or confirmed breach.

POLICIES AND PRACTICES FOR STORAGE OF RECORDS:

Electronic storage media.

POLICIES AND PRACTICES FOR RETRIEVAL OF RECORDS:

Records are retrieved by name, DoD ID, or SSN.

POLICIES AND PRACTICES FOR RETENTION AND DISPOSAL OF RECORDS:

DCHRMS records are retained for 25 years after an individual separates from the government and then the records are purged; Corporate Management Information System records are cutoff and destroyed when no longer needed for business use.

ADMINISTRATIVE, TECHNICAL, AND PHYSICAL SAFEGUARDS:

Records are accessed and or maintained in areas accessible only to authorized personnel who are properly screened, cleared, and trained. Common Access Cards (CACs) are employed to ensure access is limited to authorized personnel only. Role based access is used to ensure HR Personnel and system administrators have access to only the records they are entitled to see. Employees are able to access and view only their records and update certain personal information to them via two-factor authentication or CAC. Additional technical controls include encryption of data at rest and in transit, firewall, virtual private network, intrusion detection system, DoD Public Key Infrastructure Certificates, and least privilege access. Security systems and or security guards protect buildings where records are accessed or maintained. Additional physical access controls include, biometric access systems, multiple layers of locked access control doors and mantraps, closed-circuit television, and physical intrusion alarms.

RECORD ACCESS PROCEDURES:

Individuals seeking access to records about themselves contained in this system should address written inquiries to the Office of the Secretary of Defense/Joint Staff, Freedom of Information Act Requester Service Center, Office of Freedom of Information, 1155 Defense Pentagon, Washington, DC 20301-1155. Signed written requests should contain name and number of this System of Records Notice along with the individuals' full name, date of birth, SSN, and or DoD ID, and dates of employment (or approximate), and last employing agency. In addition, the requester must provide either a notarized statement or an unsworn declaration made in accordance with 28 U.S.C. 1746, in the following format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature).”

CONTESTING RECORD PROCEDURES:

The DoD rules for accessing records, for contesting contents, and for appealing initial agency determinations are contained in 32 CFR part 310, or may be obtained from the system manager.

NOTIFICATION PROCEDURES:

Individuals seeking to determine whether information about themselves is contained in this system should address written inquiries to the Defense Civilian Personnel Advisory Service, 4800 Mark Center Drive, Suite 06E22, Arlington, VA 22350-6000. Signed written requests should contain individual's full name, date of birth, SSN, and or DoD ID, last employing agency, and dates of employment (or approximate). In addition, the requester must provide either a notarized statement or an unsworn declaration made in accordance with 28 U.S.C. 1746, in the following format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature).”

EXEMPTIONS PROMULGATED FOR THE SYSTEM:

None.

HISTORY:

November 15, 2010, 75 FR 69642.

[FR Doc. 2020-01431 Filed 1-27-20; 8:45 am]

BILLING CODE 5001-06-P